DEPARTMENT OF THE INTERIOR

Bureau of Land Management

[CA-610-01-1610-DQ]

Notice of Availability of the Northern and Eastern Mojave Desert Proposed Plan, an Amendment to the California Desert Conservation Area Plan, and Final Environmental Impact Statement

AGENCY: Bureau of Land Management, Department of the Interior, California Desert District, Riverside, California.

ACTION: Notice of Availability of the Proposed Plan and associated Final Environmental Impact Statement (FEIS) for the Northern and Eastern Mojave Desert planning area (NEMO), an amendment to the Bureau of Land Management California Desert Conservation Area Plan.

SUMMARY: NEMO amends the California Desert Conservation Area (CDCA) Plan for a 3.3 million acre area in the northeastern portion of the CDCA, and provides for conservation and recovery of T & E species, reduces the need for further species listings and streamlines the processing of land-use permits. NEMO includes goals, objectives, management prescriptions and monitoring in accordance with the Federal Lands Policy and Management Act of 1976 (FLPMA) for comprehensive, strategic, management of the desert landscapes, including a programmatic biological opinion for the desert tortoise, strategies for the Amargosa watershed which include multiple listed species and sensitive bat habitat. The FEIS evaluates the Proposed Plan Amendments and alternatives, includes public comments on the Draft EIS and provides responses to those comments.

DATES: Written protests on the Final EIS will be accepted if received within 30 calendar days from the date that a Notice of Availability is published in the Federal Register by the Environmental Protection Agency. Instructions for filing protests are contained in the NEMO document Cover Sheet, just inside the front cover, and are included below the Supplemental Information.

ADDRESSES: Copies of the NEMO Proposed Plan/FEIS are being mailed to those who received the Draft EIS or provided comments on the Draft EIS. The document is available for review online at http://www.ca.blm.gov/cdd/nemo.html. Reading copies are also available at most local libraries and the following BLM offices:

BLM, 6221 Box Springs Blvd., Riverside, CA 92507; (909) 697-5200

BLM, 2601 Barstow Road, Barstow, CA 92311; (760) 252-6000

BLM, 101 West Spikes Road, Needles, CA 92363; (760) 326-7000

BLM, 300 South Richmond Road, Ridgecrest, CA 93555; (760) 384-5400

BLM, 690 Garnet, North Palm Springs, CA 92258; (760) 251-4800

BLM, 1661 South 4th Street, El Centro, CA 92243; (760) 337-4400

FOR FURTHER INFORMATION CONTACT: Edythe Seehafer, Barstow Field Office, 2601 Barstow Road, Barstow, California 92311; Telephone (760) 252-6021.

BACKGROUND INFORMATION: Development of the plan began in 1994, with scoping meetings held in conjunction with the National Park Service (NPS). NPS is conducting concurrent planning efforts on adjacent lands. The NEMO Planning Area covers 3.3 million acres of land in the southeastern California Desert of which 2.7 million acres are public lands. This document describes and analyzes a number of alternatives for managing species and habitats on public lands administered by the BLM. Issues identified during public scoping included (1) recovery of threatened and endangered species, including the desert tortoise, the Amargosa vole, the Amargosa niterwort, the Ash Meadows Gumplant and spring-loving Centaury; (2) maintenance of public access through the NEMO planning area which includes sensitive areas, is surrounded by two national park units and two large military bases, and includes all or parts of twenty-four wilderness and eight wilderness study areas; (3) addressing impacts to other land uses; and (4) protection of County tax base.

SUPPLEMENTARY INFORMATION: The Environmental Protection Agency published the Notice of Availability of the NEMO DEIS in the Federal Register on April 13, 2001. The public review period on the DEIS began April 13, 2001 and ended November 1, 2001.

Following are the instructions from the Code of Federal Regulations 1610.5-2 for filing protests. (a) Any person who participates in the planning process and has an interest which is or may be adversely affected by the approval or amendment of a resource management plan may protest such approval or amendment. A protest may raise only those issues which were submitted for the record during the planning process.

(1) The protest shall be in writing and shall be filed with the Director. The protest shall be filed within 30 days of the date the Environmental Protection Agency published the notice of receipt of the final environmental impact statement containing the plan or amendment in the Federal Register. For an amendment not requiring the preparation of an environmental impact statement, the protest shall be filed within 30 days of the publication of the notice of its effective date.

(2) The protest shall contain:

(i) The name, mailing address, telephone number and interest of the person filing the protest;

(ii) A statement of the issue or issues being protested;

(iii) A statement of the part or parts of the plan or amendment being protested;

(iv) A copy of all documents addressing the issue or issues that were submitted during the planning process by the protesting party or an indication of the date the issue or issues were discussed for the record; and

(v) A concise statement explaining why the State Director's decision is believed to be wrong.

(3) The Director shall promptly render a decision on the protest. The decision shall be in writing and shall set forth the reasons for the decision. The decision shall be sent to the protesting party by certified mail, return receipt requested.

(b) The decision of the Director shall be the final decision for the Department of the Interior.

Mailing address for filing a protest:

Regular mail: U.S. Department of the Interior, Director, Bureau of Land Management, Protest Coordinator (WO-210), 1849 “C” Street, NW., Washington, DC 20240

Overnight mail: U.S. Department of the Interior, Director, Bureau of Land Mgt, Protest Coordinator (WO-210), 1620 “L” Street, NW., Rm 1075, Washington, DC 20036

Bruce Shaffer,
Acting District Manager.

[FR Doc. 02-21248 Filed 8-22-02; 8:45 am]

BILLING CODE 4310-40-M